DEPARTMENT OF HEALTH AND HUMAN SERVICES

Centers for Disease Control and Prevention

[60-Day-22-1283; Docket No. CDC-2022-0019]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Monitoring and Reporting for the Overdose Data to Action Co-Operative Agreement. Information collected will provide crucial data for program performance monitoring, budget tracking, and where applicable, program success for programs funded under Overdose Data to Action (CDC-RFA-CE19-1904).

DATES: CDC must receive written comments on or before April 15, 2022.

ADDRESSES: You may submit comments, identified by Docket No. CDC-2022-0019 by either of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Monitoring and Reporting for the Overdose Data to Action Co-Operative Agreement—Revision—National Center for Injury Prevention and Control (NCIPC), Centers for Disease Control and Prevention (CDC).

Background and Brief Description

The Centers for Disease Control and Prevention (CDC), National Center for Injury Prevention and Control (NCIPC) seeks OMB approval for a Revision of a previously approved Information Collection Request (ICR) (OMB Control No. 0920-1283, Expiration 01/31/2023) for a one-year period, to continue collecting information from jurisdictions (which include states, Washington DC, U.S. Territories, cities and counties) funded under the Overdose Data to Action (CDC-RFA-CE19-1904) funding opportunity.

Drug overdose deaths in the United States increased by 18% per year from 2014 to 2016. Opioid overdose deaths have increased fivefold from 1999 to 2016, and in 2017, there were more than 47,000 deaths attributed to opioids. While the opioid overdose epidemic worsens in scope and magnitude, it is also becoming more complex. The complex and changing nature of the opioid overdose epidemic highlights the need for an interdisciplinary, comprehensive, and cohesive public health approach.

The purpose of the Overdose Data to Action (CDC-RFA-CE19-1904) notice of funding opportunity (OD2A NOFO), is to support funded jurisdictions in obtaining high quality, complete, and timely data on opioid prescribing and overdoses, and to use those data to inform prevention and response efforts. There are two required components of this award—a surveillance component and a prevention component, with 10 strategies in the funding opportunity across both components. The intent is to ensure that funded jurisdictions are well equipped to do rigorous work under both components, and to ensure that these components are linked and implemented as part of a system.

This ICR will focus on three tools that funded jurisdictions will be required to use to assess performance as well as measure effectiveness: The Activity Progress Report, the Evaluation and Performance Measuring Plan, and the Organizational Capacity Assessment Tool. These tools support the overall OD2A NOFO (all strategies above). There is an overall reduction in burden of 880 burden hours from the previously approved request.

A total of 79 jurisdictions were eligible to receive awards under this funding opportunity, and 67 jurisdictions submitted applications, of which 66 were funded. Each funded jurisdiction will be required to report the four elements of this ICR. Reporting is based on both web-based tools and Word templates. This information is being collected to provide crucial data to CDC for program monitoring and budget tracking, to improve timely CDC-recipient communications, and to inform technical assistance and guidance documents produced by CDC to support program implementation among funded jurisdictions. The information feedback loop created by these information collection tools is designed to help jurisdictions decrease fatal and nonfatal overdoses. It will also provide CDC with the capacity to respond in a timely manner to requests for information about the program from the Department of Health and Human Services (HHS), the White House, Congress, and other sources.

CDC requests approval for an estimated 462 annual burden hours. There is no cost to respondents other than their time.

Estimated Annualized Burden Hours
Type of respondents | Form name | Number of respondents | Number of responses per respondent | Average burden per response (in hours) | Total burden (in hours)
Overdose Data to Action funded jurisdictions (State, territories, counties and cities) and their Designated Delegates | Evaluation and Performance Measuring Plan Template —Annual reporting Organizational Capacity Assessment—Annual Reporting | 66 66 | 1 1 | 4 1 | 264 66
| Activity Progress Report Tool—Annual Reporting | 66 | 1 | 2 | 132
Total |  |  |  |  | 462

Jeffrey M. Zirger,
Lead, Information Collection Review Office, Office of Scientific Integrity, Office of Science, Centers for Disease Control and Prevention.

[FR Doc. 2022-03081 Filed 2-11-22; 8:45 am]

BILLING CODE 4163-18-P